NATIONAL CREDIT UNION ADMINISTRATION

Agency Information Collection Activities: Proposed Collection; Comment Request; Member Inspection of Credit Union Books, Records, and Minutes

AGENCY: National Credit Union Administration (NCUA).

ACTION: Notice and request for comment.

SUMMARY: NCUA, as part of its continuing effort to reduce paperwork and respondent burden, invites the general public and other Federal agencies to comment on an extension of a previously approved collection, as required by the Paperwork Reduction Act of 1995.

DATES: Written comments should be received on or before December 16, 2016 to be assured consideration.

ADDRESSES: Interested persons are invited to submit written comments on the information collection to Troy Hillier, National Credit Union Administration, 1775 Duke Street, Alexandria, Virginia 22314; Fax No. 703-519-8579; or Email at PRAComments@NCUA.gov

FOR FURTHER INFORMATION CONTACT: Requests for additional information should be directed to the address above.

SUPPLEMENTARY INFORMATION:

OMB Number: 3133-0176.

Title: Member Inspection of Credit Union Books, Records, and Minutes.

Abstract 12 CFR 701.3 establishes the circumstances and conditions under which Federal credit union (FCU) members may inspect and copy the FCU's books, records, and minutes of meetings. The collection of information requirements apply to FCU members seeking inspection and copying of the FCU's records and FCUs that receive such member requests. To obtain access to records, members are required to submit a petition to the FCU, stating a proper purpose for inspection and signed by at least one percent of the members, with a minimum of 20 and a maximum of 500 members. The FCU must permit inspection of relevant records if it receives such a petition.

Because most of the information exchanged under this regulation is between credit unions and their members, NCUA is not made aware of the requests covered under this regulation unless there is a dispute. We assume that instances of formal petitions being filed to request inspection of records is a fairly rare event. For purposes of estimating burden, we assume no more than five such petitions are filed each year.

Type of Review: Extension of a previously approved collection.

Affected Public: Individuals and Households and Private Sector: Not-for-profit institutions.

Estimated Number of Respondents/Recordkeepers: 10.

Estimated Annual Frequency: 5.

Estimated Annual Number of Responses: 12.

Estimated Total Annual Burden Hours: 380.

This is an extension without changes of a previously approved collection. The adjustments in burden estimates are attributable to the inclusion of FCU members as respondents and the inclusion of costs associated with potential dispute resolution.

Request for Comments: Comments submitted in response to this notice will be summarized and included in the request for Office of Management and Budget approval. All comments will become a matter of public record. The public is invited to submit comments concerning: (a) Whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

Authority: Public Law 104-13, 44 U.S.C. Chapter 35

By Gerard Poliquin, Secretary of the Board, the National Credit Union Administration, on October 12, 2016.
Dated: October 12, 2016.
Troy S. Hillier,
NCUA PRA Clearance Officer.

[FR Doc. 2016-25035 Filed 10-14-16; 8:45 am]

BILLING CODE 7535-01-P